ENVIRONMENTAL PROTECTION AGENCY

[EPA-HQ-OPP-2022-0150; FRL-10608-01-OMS]

Agency Information Collection Activities; Submission to the Office of Management and Budget for Review and Approval; Comment Request; Soil and Non-Soil Fumigants Risk Mitigation (Renewal)

AGENCY: Environmental Protection Agency (EPA).

ACTION: Notice.

SUMMARY: The Environmental Protection Agency (EPA) has submitted an information collection request (ICR), “Soil and Non-Soil Fumigants Risk Mitigation (Renewal)” (EPA ICR Number 2451.03, OMB Control Number 2070-0197) to the Office of Management and Budget (OMB) for review and approval in accordance with the Paperwork Reduction Act. This is a proposed extension of the ICR, which is currently approved through January 31, 2023. Public comments were previously requested via the Federal Register on June 24, 2022, during a 60-day comment period. This notice allows for an additional 30 days for public comments.

DATES: Comments may be submitted on or before February 27, 2023.

ADDRESSES: Submit your comments, referencing Docket ID Number HQ-OPPT-2022-0150, to EPA online using www.regulations.gov (our preferred method), or by mail to: EPA Docket Center, Environmental Protection Agency, Mail Code 28221T, 1200 Pennsylvania Ave. NW, Washington, DC 20460. EPA's policy is that all comments received will be included in the public docket without change including any personal information provided unless the comment includes profanity, threats, information claimed to be Confidential Business Information (CBI,) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Carolyn Sui, Regulatory Support Branch, 2602M, Environmental Protection Agency, 1200 Pennsylvania Ave. NW, Washington, DC 20460; telephone number: (202) 566-1205; email address: sui.carolyn@epa.gov.

SUPPLEMENTARY INFORMATION: This is a proposed extension of the ICR, which is currently approved through January 31, 2023. An agency may not conduct or sponsor and a person is not required to respond to a collection of information unless it displays a currently valid OMB control number.

Public comments were previously requested via the Federal Register on June 24, 2022, during a 60-day comment period (87 FR 37856). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Pursuant to section 4(g) of the Federal Insecticide, Fungicide, and Rodenticide Act (FIFRA), EPA determined that several soil and non-soil fumigants are eligible for continuing registration only if specific risk mitigation measures, are adopted and adequately implemented. This ICR documents the PRA activities that users, registrants, and participating states must conduct to implement fumigant risk mitigation measures for the chemicals identified in this document. The PRA burden activities include: Registrant activities to develop and implement training for fumigators in charge of fumigations, develop and disseminate safety information for handlers, develop and implement community outreach and education programs, and develop and implement first responder training; and labeling activities for fumigant products which includes user posting requirements concerning fumigant applications around the use site, providing notice of soil fumigant applications to applicable states, preparing a Fumigant Management Plan (FMP) and Post-Application Summary (PAS) as needed, participating in an EPA-approved fumigant training program, and disseminating fumigant safe handling information to handlers.

Form Numbers: None.

Respondents/affected entities: Entities potentially affected by this ICR are soil and non-soil fumigant users, specifically certified applicators and agriculture pesticide handlers (North American Industrial Classification System (NAICS) 111000-Agriculture, Forestry, Fishing and Hunting); soil and non-soil fumigant registrants (NAICS 325300-Pesticide, Fertilizer, and Other Agricultural Chemical Manufacturing); and state and tribal lead agencies (NAICS 999200-State Government).

Respondent's obligation to respond: Mandatory (FIFRA sections 3(c)(2)(B) and 3(c)(5)).

Estimated number of respondents: 118,436 (total).

Frequency of response: On occasion.

Total estimated burden: 841,738 hours (per year). Burden is defined at 5 CFR 1320.03(b).

Total estimated cost: $35,566,696 (per year), which includes $1,060,214 annualized capital or operation & maintenance costs.

Changes in the Estimates: There is a decrease of 309,158 hours in the total estimated respondent burden compared with the ICR currently approved by OMB. This decrease is due to the update in the estimate of number of applicators certified and handlers for soil and non-soil fumigations. There is also a decrease in burden costs for both types of fumigation due to updating the wages to the current 2021 data provided by the U.S. Bureau of Labor Statistics. This is an adjustment.

Courtney Kerwin,
Director, Regulatory Support Division.

[FR Doc. 2023-01547 Filed 1-25-23; 8:45 am]

BILLING CODE 6560-50-P